ENVIRONMENTAL PROTECTION AGENCY

40 CFR Parts 52 and 81

[MO 114-1114; FRL-6885-7]

Approval and Promulgation of Implementation Plans; State of Missouri; Designation of Areas for Air Quality Planning Purposes; Dent Township

AGENCY: Environmental Protection Agency (EPA).

ACTION: Proposed rule.

SUMMARY: EPA proposes to approve a State Implementation Plan (SIP) revision submitted by the state of Missouri and Missouri's request to redesignate the lead nonattainment area in western Iron County, Missouri, to attainment of the National Ambient Air Quality Standards (NAAQS). EPA proposes to approve the maintenance plan for this area including a consent order which was submitted with the redesignation request, and also proposes to approve the revision to Missouri's Restriction of Emissions of Lead From Specific Lead Smelter-Refinery Installations rule which ensures the permanent and enforceable emission reductions by clarifying the emissions limits for the Doe Run Resource Recycling Facility, and removes the text which could have allowed this facility to resume operation as a primary smelter.

In the final rules section of today's Federal Register, EPA is approving the state's SIP revision and redesignation request as a direct final rule without prior proposal because the Agency views this as a noncontroversial action and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time.

DATES: Comments on this proposed action must be received in writing by November 17, 2000.

ADDRESSES: Comments may be mailed to Kim Johnson, Environmental Protection Agency, Air Planning and Development Branch, 901 North 5th Street, Kansas City, Kansas 66101.

FOR FURTHER INFORMATION CONTACT: Kim Johnson at (913) 551-7975.

SUPPLEMENTARY INFORMATION: See the information provided in the direct final rule which is located in the rules section of today's Federal Register.

Dated: September 27, 2000.
Dennis Grams,
Regional Administrator, Region 7.

[FR Doc. 00-26502 Filed 10-17-00; 8:45 am]

BILLING CODE 6560-50-P